DEPARTMENT OF HEALTH AND HUMAN SERVICES

National Institutes of Health

Center for Scientific Review; Amended Notice of Meeting

Notice is hereby given of a change in the meeting of the Center for Scientific Review Special Emphasis Panel, June 14, 2018, 11:00 a.m. to June 14, 2018, 1:00 p.m., Sir Francis Drake Hotel, 450 Powell Street at Sutter, San Francisco, CA 94102 which was published in the Federal Register on May 22, 2018, 83 FR 23696.

The meeting will be held at the National Institutes of Health, 6701 Rockledge Drive, Bethesda, MD 20892. The meeting date and time remain the same. The meeting is closed to the public.

Dated: May 24, 2018.
David D. Clary,
Program Analyst, Office of Federal Advisory Committee Policy.

[FR Doc. 2018-11558 Filed 5-29-18; 8:45 am]

BILLING CODE 4140-01-P